DEPARTMENT OF AGRICULTURE

Forest Service

Lake Tahoe Basin Federal Advisory Committee

AGENCY: Office of Secretary, USDA.

ACTION: Notice of renewal of charter.

SUMMARY: The Secretary of Agriculture has renewed the charter of the Lake Tahoe Federal Advisory Committee. Chartered under the Federal Advisory Committee Act, the Committee provides advice to the Secretary of Agriculture and to the Federal Interagency Partnership on how the Partnership can best fulfill its duties, pursuant to Executive Order 13057, to protect the extraordinary natural, recreational, and ecological resources in the Lake Tahoe Region.

DATES: The charter renewal is effective June 23, 2000. As provided by law, the charter will expire 24 months from the date of filing.

FOR FURTHER INFORMATION CONTACT: Maribeth Gustafson, Forest Supervisor, Lake Tahoe Basin Management Unit, telephone (530) 573-2773.

SUPPLEMENTARY INFORMATION: Pursuant to the Federal Advisory Committee Act (5 U.S.C. App.), notice is hereby given that the Secretary of Agriculture has renewed the charter of the Lake Tahoe Basin Federal Advisory Committee. The purpose of the Committee is to provide advice to the Secretary of Agriculture and to the Federal Interagency Partnership on how the Partnership can best fulfill its duties to protect the extraordinary natural, recreational, and ecological resources in the Lake Tahoe Region. The Partnership was established in accordance with Executive Order 13057, “Federal Actions in the Lake Tahoe Region.” The Secretary has determined that the work of the Committee is in the public interest and relevant to the duties of the Department of Agriculture.

The Committee will meet on a quarterly basis, conduct public meetings to discuss management strategies, gather information about and review Federal agency accomplishments, and prepare a progress report every 6 months for submission to regional Federal executives. Three members of the Committee have been selected as members-at-large. The others have been selected to represent each of the following interests: Gaming, environmental, national environmental, ski resorts, North Shore economic/recreation, South Shore economic/recreation, resort associations, education, property rights advocates, science and research, local government, Washoe Tribe, State of California, State of Nevada, Tahoe Regional Planning Agency, labor, and transportation. The Committee Chair will be recommended by the Committee and approved by the Secretary. A vacancy on the Committee will be filled in the manner in which the original appointment was made.

The Secretary of Agriculture appoints the members to the Committee. In line with USDA policies, equal opportunity practices are followed in all appointments to the Committee. To ensure that the recommendations of the Committee have taken into account the needs of the diverse groups served by the Department, membership includes to the extent practicable individuals with demonstrated ability to represent minorities, women, persons with disabilities, and senior citizens.

Dated: June 12, 2000.
Paul W. Fiddick,
Assistant Secretary for Administration.

[FR Doc. 00-18125 Filed 7-17-00; 8:45 am]

BILLING CODE 3410-11-M